DEPARTMENT OF ENERGY

Federal Energy Regulatory Commission

[Project No. 2153-012 California]

Notice of Public Meeting To Discuss the Environmental Assessment Prepared for the Santa Felicia Hydropower Project; United Water Conservation District

December 12, 2005.

On November 28, 2005, the Commission staff issued an Environmental Assessment (EA); prepared for the licensing of the Santa Felicia Hydroelectric Project.

Comments on the EA are due January 12, 2006. The EA evaluates the environmental effects of the continued operation, and maintenance of the project. The project occupies 174.5 acres of U.S. land, administered by the U.S. Department of Agriculture, Forest Service, in the Los Padres and Angeles National Forests.

In the EA, Commission staff analyze the probable environmental effects of relicensing the project and conclude that approval of the project, with appropriate staff-recommended environmental measures, would not constitute a major federal action significantly affecting the quality of the human environment.

A public meeting, which will be recorded by an official stenographer, is scheduled for Thursday, January 5, 2006, from 9 a.m. to 3 p.m. at the United Water Conservation District's office at 106 North Eighth Street, Santa Paula, CA 93060. We ask that persons in need of directions or other assistance contact John Dickenson of United directly at (805) 525-4431 or via e-mail at johnd@unitedwater.org.

At this meeting, resource agency personnel and other interested persons will have the opportunity to provide oral and written comments and recommendations regarding the licensing of the Santa Felicia Hydroelectric Project for the Commission's public record.

Copies of the EA are available for review in Public Reference Room 2-A of the Commission's offices at 888 First Street, NE., Washington, DC. The EA also may be viewed on the Commission's Internet Web site (http://www.ferc.gov) using the “eLibrary” link. For assistance with eLibrary, contact FERCOlineSuuport@ferc.gov or call toll-free at (866) 208-3676; for TTY contact (202) 502-8659.

Magalie R. Salas,
Secretary.

[FR Doc. E5-7423 Filed 12-15-05; 8:45 am]

BILLING CODE 6717-01-P